DEPARTMENT OF ENERGY

Federal Energy Regulatory Commission

Combined Notice of Filings #1

November 15, 2007.

Take notice that the Commission received the following electric corporate filings:

Docket Numbers: EC08-13-000.

Applicants: Progress Energy Service Company LLC.

Description: Application of Carolina Power & Light Co et al. for an order authorizing the issuance and selling of short term debt securities having a maturity of not more than one year.

Filed Date: 11/13/2007.

Accession Number: 20071115-0046.

Comment Date: 5 p.m. Eastern Time on Tuesday, December 4, 2007.

Take notice that the Commission received the following electric rate filings:

Docket Numbers: ER99-2984-008.

Applicants: Green County Energy, LLC.

Description: Green County Energy, LLC submits a notice of non-material change in status.

Filed Date: 11/09/2007.

Accession Number: 20071114-0092.

Comment Date: 5 p.m. Eastern Time on Friday, November 30, 2007.

Docket Numbers: ER00-1780-007; ER00-840-007; ER01-137-005; ER01-2641-011; ER01-2690-009; ER01-389-007; ER01-557-010; ER01-558-010; ER01-559-010; ER01-560-010; ER01-596-005; ER02-1942-006; ER02-24-009; ER02-25-008; ER02-2509-006; ER02-26-008; ER02-77-009; ER02-963-008; ER05-524-003; ER94-389-027; ER98-1767-010; ER99-2992-007; ER99-3165-007; ER99-415-014.

Applicants: TEXAS ELECTRIC MARKETING, LLC; Tenaska Alabama Partners, L.P.; Tenaska Alabama II Partners, L.P.; High Desert Power Project, LLC; California Electric Marketing, LLC; Calumet Energy Team, LLC; University Park Energy, LLC; Holland Energy, LLC; Wolf Hills Energy, LLC; Big Sandy Peaker Plant, LLC; ALABAMA ELECTRIC MARKETING, LLC; Tenaska Virginia Partners, LP; Armstrong Energy LLLP; Troy Energy, LLC; Kiowa Power Partners, LLC; Pleasants Energy LLC; New Mexico Electric Marketing, LLC; Crete Energy Venture, LLC; Lincoln Generating Facility, LLC; Tenaska Power Services Co.; Tenaska Frontier Partners, Ltd.; TENASKA GATEWAY PARTNERS LTD; TENASKA GEORGIA PARTNERS LP; Commonwealth Chesapeake Company LLC.

Description: Tenaska Energy, Inc et al. submits notification of change in status in connection with their recent acquisition of indirect control over Lincoln Generating Facility, LLC and Crete Energy Venture, LLC.

Filed Date: 11/13/2007.

Accession Number: 20071115-0058.

Comment Date: 5 p.m. Eastern Time on Tuesday, December 4, 2007.

Docket Numbers: ER01-2742-006; ER02-1695-004; ER02-2309-003;

Applicants: Rock River I, LLC; Cabazon Wind Partners, LLC; Whitewater Hill Wind Partners LLC;

Description: Cabazon Wind Partners, LLC et al. submits a notice of non-material change in status, in compliance with the reporting requirements in Order 652.

Filed Date: 11/09/2007.

Accession Number: 20071114-0082.

Comment Date: 5 p.m. Eastern Time on Friday, November 30, 2007.

Docket Numbers: ER02-1437-004; ER02-1785-012;

Applicants: Triton Power Michigan LLC; Thermo Cogeneration Partnership LP.

Description: Triton Power Michigan LLC et al. submits a notice of non-material change in status in compliance.

Filed Date: 11/09/2007.

Accession Number: 20071114-0091.

Comment Date: 5 p.m. Eastern Time on Friday, November 30, 2007.

Docket Numbers: ER03-719-007; ER03-720-007; ER03-721-007;

Applicants: New Athens Generating Company, LLC; New Covert Generating Company, LLC; New Harquahala Generating Company, LLC.

Description: New Athens Generating Company et al. submits Notice of Non-material Change in Status and Substitute First Revised Sheet 1 et al. to provide an effective date of 9/18/07 which coincides with Order 697.

Filed Date: 11/13/2007.

Accession Number: 20071115-0111.

Comment Date: 5 p.m. Eastern Time on Tuesday, December 4, 2007.

Docket Numbers: ER07-1285-001.

Applicants: Niagara Mohawk Power Corporation.

Description: Niagara Mohawk Power Corp dba National Grid submits an informational response to FERC's 10/3/07 letter to provide additional information.

Filed Date: 11/09/2007.

Accession Number: 20071114-0089.

Comment Date: 5 p.m. Eastern Time on Friday, November 30, 2007.

Docket Numbers: ER07-1335-001.

Applicants: Santa Rosa Energy LLC

Description: Notice of non-material change in status re Santa Rosa Energy Center, LLC.

Filed Date: 11/09/2007.

Accession Number: 20071114-0080.

Comment Date: 5 p.m. Eastern Time on Friday, November 30, 2007.

Docket Numbers: ER07-1421-001; ER07-1422-001.

Applicants: PJM Interconnection, L.L.C.

Description: Virginia Electric and Power Company dba Dominion Virigina Power amends its 9/28/07 filing in the proceeding by updating Attachment H-16D to the Open Access Transmission Tariff administered by PJM.

Filed Date: 11/13/2007.

Accession Number: 20071115-0120.

Comment Date: 5 p.m. Eastern Time on Tuesday, December 4, 2007.

Docket Numbers: ER08-14-001.

Applicants: Alpha Domestic Power Trading, L.L.C.

Description: Alpha Domestic Power Trading, LLC submits Substitute Original Sheet 1 to FERC Electric Tariff, Original Volume 1.

Filed Date: 11/14/2007.

Accession Number: 20071115-0116.

Comment Date: 5 p.m. Eastern Time on Wednesday, December 5, 2007.

Docket Numbers: ER08-110-001.

Applicants: Starwood Power-Midway, LLC.

Description: Starwood Power-Midway LLC submits additional detailed information concerning its generation market power screens, a clean and redline version of Page 2 of the proposed Tariff et al. submitted on 10/29/07.

Filed Date: 11/13/2007.

Accession Number: 20071115-0112.

Comment Date: 5 p.m. Eastern Time on Friday, November 23, 2007.

Docket Numbers: ER08-125-001; ER08-125-002.

Applicants: Luminant Energy Company LLC.

Description: Notice of Change in Status Pursuant to Order Nos. 652 and 697 and Submission of Revised Rate Schedule Sheets of Luminant Energy Company LLC.

Filed Date: 11/09/2007.

Accession Number: 20071109-5091.

Comment Date: 5 p.m. Eastern Time on Friday, November 30, 2007.

Docket Numbers: ER08-191-001.

Applicants: Aquila, Inc.

Description: Aquila, Inc submits a supplement to the 11/6/07 filing of an Amended and Restated Coordinating Agreement.

Filed Date: 11/13/2007.

Accession Number: 20071114-0079.

Comment Date: 5 p.m. Eastern Time on Tuesday, December 4, 2007.

Docket Numbers: ER08-198-000.

Applicants: Pacific Gas and Electric Company.

Description: Pacific Gas and Electric Co submits an annual adjustment to a transmission service rate under the Interconnection Agreement with Sacramento Municipal Utility District.

Filed Date: 11/09/2007.

Accession Number: 20071113-0005.

Comment Date: 5 p.m. Eastern Time on Friday, November 30, 2007.

Docket Numbers: ER08-199-000.

Applicants: ISO New England Inc.

Description: ISO New England Inc submits various revisions to FCM Rules.

Filed Date: 11/09/2007.

Accession Number: 20071114-0088.

Comment Date: 5 p.m. Eastern Time on Friday, November 30, 2007.

Docket Numbers: ER08-200-000.

Applicants: Waterbury Generation, LLC.

Description: Waterbury Generation, LLC submits an application for Order accepting Market-Based Rate Tariff for filing and granting Waivers and Blanket Approvals.

Filed Date: 11/09/2007.

Accession Number: 20071114-0087.

Comment Date: 5 p.m. Eastern Time on Friday, November 30, 2007.

Docket Numbers: ER08-201-000.

Applicants: Cogentrix Virginia Leasing Corporation.

Description: Petition of Cogentrix Virginia Leasing Corp for Order accepting Market-Based Rate Tariff for filing and granting Waivers and Blanket Approvals etc.

Filed Date: 11/09/2007.

Accession Number: 20071114-0086.

Comment Date: 5 p.m. Eastern Time on Friday, November 30, 2007.

Docket Numbers: ER08-202-000.

Applicants: James River Cogeneration Company.

Description: Petition of James River Cogeneration Co. for Order accepting Market-Based Rate Tariff for filing and granting Waivers and Blanket Approvals.

Filed Date: 11/09/2007.

Accession Number: 20071114-0085.

Comment Date: 5 p.m. Eastern Time on Friday, November 30, 2007.

Docket Numbers: ER08-203-000.

Applicants: Primary Energy of North Carolina LLC.

Description: Primary Energy of North Carolina LLC submits an application for Market-Based Rate Authority, Certain Waivers and Blanket Approvals etc.

Filed Date: 11/09/2007.

Accession Number: 20071114-0084.

Comment Date: 5 p.m. Eastern Time on Friday, November 30, 2007.

Docket Numbers: ER08-204-000.

Applicants: POWEREX CORP.

Description: Powerex Corp submits a Notice of Cancellation of a Certificate of Concurrence.

Filed Date: 11/13/2007.

Accession Number: 20071114-0081.

Comment Date: 5 p.m. Eastern Time on Tuesday, December 4, 2007.

Docket Numbers: ER08-206-000.

Applicants: FPL Energy Oliver Wind, LLC.

Description: FPL Energy Oliver Wind LLC submits Shared Facilities Agreement with FPL Energy Wind II LLC, dated 8/24/07, designated as its Rate Schedule FERC 1.

Filed Date: 11/13/2007.

Accession Number: 20071115-0119.

Comment Date: 5 p.m. Eastern Time on Tuesday, December 4, 2007.

Docket Numbers: ER08-207-000.

Applicants: Midwest Independent Transmission System.

Description: Midwest Independent Transmission System Operator Inc. submits its proposed revisions to its Open Access Transmission and Energy Markets Tariff, to clarify that load serving entities with service obligation etc.

Filed Date: 11/13/2007.

Accession Number: 20071115-0118.

Comment Date: 5 p.m. Eastern Time on Tuesday, December 4, 2007.

Docket Numbers: ER08-208-000.

Applicants: MidAmerican Energy Company.

Description: MidAmerican Energy Company an amended Electric Interconnection Agreement with Northwest Idaho Power Cooperative, dated 10/25/07.

Filed Date: 11/13/2007.

Accession Number: 20071115-0117.

Comment Date: 5 p.m. Eastern Time on Tuesday, December 4, 2007.

Docket Numbers: ER08-209-000

Applicants: Midwest Independent Transmission System.

Description: Midwest Independent Transmission System Operator, Inc submits an executed Large Generator Interconnection Agreement with Prairie State Generating Co, LLC.

Filed Date: 11/13/2007.

Accession Number: 20071115-0059.

Comment Date: 5 p.m. Eastern Time on Tuesday, December 4, 2007.

Docket Numbers: ER08-210-000.

Applicants: PJM Interconnection, L.L.C.

Description: PJM Interconnection LLC submits its Request for Waiver of PJM Emergency Load Response Program Rules wherein it moves for a one-time waiver of the ELRP verification rule that prohibits energy payments to participants etc.

Filed Date: 11/14/2007.

Accession Number: 20071115-0115.

Comment Date: 5 p.m. Eastern Time on Wednesday, December 5, 2007.

Docket Numbers: ER08-211-000.

Applicants: Southern California Edison Company.

Description: Southern California Edison submits an amended Letter Agreement with CPV Sentinel LLC.

Filed Date: 11/14/2007.

Accession Number: 20071115-0114.

Comment Date: 5 p.m. Eastern Time on Wednesday, December 5, 2007.

Docket Numbers: ER08-212-000.

Applicants: NSTAR Electric Company.

Description: NStar Electric Company submits Amendment 1 to the Interconnection Agreement with the Town of Norwood Municipal Light Department along with a conformed copy of the Interconnect Agreement etc.

Filed Date: 11/14/2007.

Accession Number: 20071115-0113.

Comment Date: 5 p.m. Eastern Time on Wednesday, December 5, 2007.

Take notice that the Commission received the following electric securities filings:

Docket Numbers: ES08-5-000.

Applicants: Progress Energy Service Company LLC.

Description: Application of Carolina Power & light Co et al. for an order authorizing the issuance and selling of short term debt securities having a maturity of not more than one year.

Filed Date: 11/13/2007.

Accession Number: 20071115-0046.

Comment Date: 5 p.m. Eastern Time on Tuesday, December 4, 2007.

Take notice that the Commission received the following electric reliability filings:

Docket Numbers: RR06-1-013.

Applicants: North American Electric Reliability Corp.

Description: Compliance Filing of the North American Electric Reliability Corp. in Response to the October 18, 2007 Order.

Filed Date: 11/13/2007.

Accession Number: 20071113-5148.

Comment Date: 5 p.m. Eastern Time on Tuesday, December 4, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E7-22797 Filed 11-21-07; 8:45 am]

BILLING CODE 6717-01-P